DEPARTMENT OF TRANSPORTATION

Federal Aviation Administration

14 CFR Part 39

[Docket No. FAA-2012-0488; Directorate Identifier 2011-NM-106-AD; Amendment 39-17244; AD 2012-22-08]

RIN 2120-AA64

Airworthiness Directives; Airbus Airplanes

AGENCY: Federal Aviation Administration (FAA), DOT.

ACTION: Final rule.

SUMMARY: We are adopting a new airworthiness directive (AD) for certain Airbus Model A300 B4-600 and A300 B4-600R, Model A300, and Model A310 series airplanes. This AD was prompted by reports of fatigue cracking in the crossbeams at the junction of the actuator beam of the lower deck cargo door. This AD requires repetitive inspections of the crossbeams of certain fuselage frames, and repair if necessary. We are issuing this AD to detect and correct cracking of the crossbeams at the junction of the actuator beam of the lower deck cargo door, which could result in failure to withstand ultimate load conditions, and consequent reduced structural integrity of the airplane.

DATES: This AD is effective December 20, 2012.

The Director of the Federal Register approved the incorporation by reference of certain publications listed in the AD as of December 20, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM published in the Federal Register on May 22, 2012 (77 FR 30228). That NPRM proposed to correct an unsafe condition for the specified products. The Mandatory Continuing Airworthiness Information (MCAI) states:

Some operators have reported cracked crossbeams at the junction with the lower deck cargo door actuator beam. The investigation results indicate that these cracks initiated in the fastener hole, propagated in a vertical direction and were due to fatigue.

This condition, if not corrected, could lead, in case of cracks propagation in a crossbeam (upper and lower web), to the floor grid being unable to withstand ultimate load condition.

For the reasons described above, this [European Aviation Safety Agency (EASA)] AD requires repetitive [high frequency eddy current] inspections [for cracks] of certain crossbeams including those previously repaired by the Structure Repair Manual (SRM) or Repair Approval Sheet (RAS).

The required actions include repairing any cracking. As an option, modifying the crossbeams terminates the repetitive inspections. You may obtain further information by examining the MCAI in the AD docket.

Comments

We gave the public the opportunity to participate in developing this AD. The following presents the comments received on the proposal (77 FR 30228, May 22, 2012) and the FAA's response to each comment.

Request To Clarify That Freighter Airplanes Are Not Affected

UPS stated that the NPRM (77 FR 30228, May 22, 2012) does not apply to its Model A300 F4-622R airplanes.

We infer that the commenter is asking for clarification that its airplanes are not affected by the proposed requirements. Freighter airplanes identified as freighters on the initial certificate of airworthiness are excluded from the applicability in this AD. The loads distribution via the main deck cargo loading system onto the floor grid is different from passenger airplanes. In addition, the European Aviation Safety Agency (EASA), which is the aviation authority for the Member States of the European Community, has granted an alternative method of compliance (AMOC) for Airbus airplanes converted from passenger to freighter configuration by EASA supplemental type certificate (STC). We have changed the applicability in paragraph (c) of this AD to exclude airplanes converted by the equivalent FAA STCs ST01431NY, ST00177LA-D, and ST00100NY.

Request To Extend Repetitive Inspection Interval/Eliminate Compliance Time for Corrective Action

FedEx asked that the repetitive inspection interval specified in paragraph (g) of the NPRM (77 FR 30228, May 22, 2012), be extended from 600 flight cycles to within 1,500 flight cycles or 24 months after the effective date of the AD, whichever occurs first. FedEx stated that the current repetitive inspection interval is ten times more frequent than the 6,000-flight-cycle interval in the existing airworthiness limitations items and maintenance review board requirements. FedEx added that these maintenance program items have been performed regularly at FedEx and have yielded few findings. FedEx noted that this extension will coincide with its regular maintenance check schedule.

FedEx also stated that paragraph (g)(2) of the NPRM (77 FR 30228, May 22, 2012) specifies that, if a prior repair has been done on the crossbeam, the corrective action requires accomplishing a repair within 600 flight cycles after the effective date of the AD. This places an additional burden on operators by mandating replacement of the crossbeam.

We disagree with the requests to extend the compliance time for the repetitive inspections and to eliminate the compliance time for the corrective action. Based on the data provided by Airbus, we determined that repetitive intervals of 600 flight hours and doing the repair before the accumulation of 10,000 total flight cycles since first flight of the airplane, or within 600 flight cycles after the effective date of this AD, whichever occurs later, is appropriate to address the identified unsafe condition. In developing an appropriate compliance time for these actions, we considered the urgency associated with the subject unsafe condition, the manufacturer's recommendations, and the practical aspect of accomplishing the required actions within a period of time that corresponds to the normal scheduled maintenance for most affected operators. In addition, our compliance time corresponds with the compliance time of the parallel AD issued by EASA. Under the provisions of paragraph (j)(1) of this AD, we will consider requests for approval of an extension of the compliance time if sufficient data are submitted to substantiate that the new compliance time would provide an acceptable level of safety. We have not changed the AD in this regard.

Product Identification Correction

We have changed the product identification in this AD to specify “Airbus.” We inadvertently listed “The Boeing Company” in the product identification section of the NPRM (77 FR 30228, May 22, 2012).

Conclusion

We reviewed the relevant data, considered the comments received, and determined that air safety and the public interest require adopting the AD with the changes described previously. We also determined that these changes will not increase the economic burden on any operator or increase the scope of the AD.

Costs of Compliance

Based on the service information, we estimate that this AD affects about 152 products of U.S. registry. We also estimate that it will take about 1 work-hour per product to comply with the basic requirements of this AD. The average labor rate is $85 per work-hour. Based on these figures, we estimate the cost of the AD on U.S. operators to be $12,920, or $85 per product.

We have received no definitive data that would enable us to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-22-08 Airbus: Amendment 39-17244; Docket No. FAA-2012-0488; Directorate Identifier 2011-NM-106-AD.

(a) Effective Date

This AD is effective December 20, 2012.

(b) Affected ADs

None.

(c) Applicability

This AD applies to Airbus Model A300 B2-1A, B2-1C, B2K-3C, B2-203, B4-2C, B4-103, and B4-203 airplanes; Model A300 B4-601, B4-603, B4-620, and B4-622 airplanes; Model A300 B4-605R and B4-622R airplanes; and Model A310-203, -204, -221, -222, -304, -322, -324, and -325 airplanes; certificated in any category; except those airplanes identified in paragraph (c)(1), (c)(2), (c)(3), and (c)(4) of this AD.

(1) Airplanes on which Airbus Service Bulletin A300-53-6166 (Airbus Modification 13434) has been embodied in service (for Model A300 B4-600 and A300 B4-600R series airplanes).

(2) Airplanes on which Airbus Service Bulletin A300-53-0389 (Airbus Modification 13434) has been embodied in service (for Model A300 series airplanes).

(3) Airplanes on which Airbus Service Bulletin A310-53-2133 (Airbus Modification 13434) has been embodied in service (for Model A310 series airplanes).

(4) Airplanes modified by FAA Supplemental Type Certificate (STC) ST01431NY, ST00177LA-D, or ST00100NY, as applicable.

(d) Subject

Air Transport Association (ATA) of America Code 53: Fuselage.

(e) Reason

This AD was prompted by reports of fatigue cracking in the crossbeams at the junction of the actuator beam of the lower deck cargo door. We are issuing this AD to detect and correct cracking of the crossbeams at the junction of the actuator beam of the lower deck cargo door, which could result in failure to withstand ultimate load conditions, and consequent reduced structural integrity of the airplane.

(f) Compliance

You are responsible for having the actions required by this AD performed within the compliance times specified, unless the actions have already been done.

(g) Repetitive High Frequency Eddy Current Inspections

(1) For airplanes on which the crossbeams at frames (FR) 22/23 and FR 61/62 have not been repaired as specified in an Airbus structural repair manual or repair approval sheet as of the effective date of this AD: Before the accumulation of 10,000 total flight cycles since first flight of the airplane, or within 600 flight cycles after the effective date of this AD, whichever occurs later, perform a high frequency eddy current (HFEC) inspection for cracking of the crossbeam fuselage frame stations FR 22/23 and FR 61/62, in accordance with the Accomplishment Instructions of the applicable service bulletin identified in paragraph (g)(1)(i), (g)(1)(ii), or (g)(1)(iii) of this AD. Repeat the inspection thereafter at intervals not to exceed 600 flight cycles until the modification specified in paragraph (i) of this AD has been done.

(i) Airbus Mandatory Service Bulletin A300-53-0390, dated January 15, 2010 (for Model A300 series airplanes).

(ii) Airbus Mandatory Service Bulletin A310-53-2134, dated January 15, 2010 (for Model A310 series airplanes).

(iii) Airbus Mandatory Service Bulletin A300-53-6168, dated January 15, 2010 (for Model A300-600 series airplanes).

(2) For airplanes on which the crossbeams at FR 22/23 and FR 61/62 have been repaired as specified in an Airbus structural repair manual or repair approval sheet as of the effective date of this AD: Before the accumulation of 10,000 total flight cycles since first flight of the airplane, or within 600 flight cycles after the effective date of this AD, whichever occurs later, repair in accordance with a method approved by the Manager, International Branch, ANM-116, Transport Airplane Directorate, FAA; or the European Aviation Safety Agency (EASA) (or its delegated agent).

(h) Corrective Action

If any crack is found during any inspection required by paragraph (g) of this AD: Before further flight, repair any crack using a method approved by the Manager, International Branch, ANM-116; or EASA (or its delegated agent).

(i) Optional Terminating Action

Modifying the crossbeam fuselage frame stations FR 22/23 and FR 61/62, including doing rotating probe inspections for cracks of fastener holes, in accordance with the Accomplishment Instructions of the applicable service bulletin identified in paragraph (i)(1), (i)(2), or (i)(3) of this AD, and repairing any crack using a method approved by the Manager, International Branch, ANM-116; or EASA (or its delegated agent); terminates the repetitive inspections required by paragraph (g)(1) of this AD.

(1) Airbus Service Bulletin A300-53-0389, Revision 02, dated April 27, 2011 (for Model A300 series airplanes).

(2) Airbus Service Bulletin A310-53-2133, Revision 02, dated April 27, 2011 (for Model A310 series airplanes).

(3) Airbus Service Bulletin A300-53-6166, Revision 01, dated May 21, 2010 (for Model A300-600 series airplanes).

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to EASA Airworthiness Directive 2011-0086, dated May 12, 2011; and the service information identified in paragraphs (k)(1), (k)(2), (k)(3), (k)(4), (k)(5), and (k)(6) of this AD, for related information.

(1) Airbus Mandatory Service Bulletin A300-53-0390, dated January 15, 2010.

(2) Airbus Mandatory Service Bulletin A300-53-6168, dated January 15, 2010.

(3) Airbus Mandatory Service Bulletin A310-53-2134, dated January 15, 2010.

(4) Airbus Service Bulletin A300-53-0389, Revision 02, dated April 27, 2011.

(5) Airbus Service Bulletin A300-53-6166, Revision 01, dated May 21, 2010.

(6) Airbus Service Bulletin A310-53-2133, Revision 02, dated April 27, 2011.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A300-53-0390, dated January 15, 2010.

(ii) Airbus Mandatory Service Bulletin A300-53-6168, dated January 15, 2010.

(iii) Airbus Mandatory Service Bulletin A310-53-2134, dated January 15, 2010.

(iv) Airbus Service Bulletin A300-53-0389, Revision 02, dated April 27, 2011.

(v) Airbus Service Bulletin A300-53-6166, Revision 01, dated May 21, 2010.

(vi) Airbus Service Bulletin A310-53-2133, Revision 02, dated April 27, 2011.

(3) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the referenced service information at the FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 24, 2012.
Kalene C. Yanamura,
Acting Manager, Transport Airplane Directorate, Aircraft Certification Service.

[FR Doc. 2012-27055 Filed 11-14-12; 8:45 am]

BILLING CODE 4910-13-P